DEPARTMENT OF ENERGY

Federal Energy Regulatory Commission

[Docket No. RP01-53-000]

Great Lakes Gas Transport, LLC; Notice of Proposed Changes in FERC Gas Tariff

October 19, 2000.

Take notice that on October 16, 2000, Great Lakes Gas Transport, LLC (GT), formerly Gas Transport, Inc., tendered for filing as part of its FERC Gas Tariff, Second Revised Volume No. 1, Third Revised Sheet No. 143, with a proposed effective date of November 1, 2000.

GT states that the purpose of the instant filing is to comply with Order No. 587-L issued June 30, 2000 in Docket No. RM96-1-014, which permits shippers to offset imbalances on different contracts held by the shipper and to trade imbalances.

GT states that copies of this filing were served upon its customers and interested state commissions.

Any person desiring to be heard or to protect said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27343 Filed 10-24-00; 8:45 am]

BILLING CODE 6717-01-M